DEPARTMENT OF THE INTERIOR

National Park Service

[NPS-NER-BOHA-20182; PPMPSPD1Z.YM0000][PPNEBOHAS1]

Notice of March 9, 2016, Meeting of the Boston Harbor Islands National Recreation Area Advisory Council

AGENCY: National Park Service, Interior.

ACTION: Notice of annual meeting.

SUMMARY: This notice announces the annual meeting of the Boston Harbor Islands National Recreation Area Advisory Council (Council). The agenda includes a talk about the history and contemporary nature of the Boston Harbor Islands as “islands on the edge.” Since their ancient formation by rising sea level, the Boston Harbor Islands have literally been on the edge of the continent, places where land meets sea, and now at the edge of a major metropolitan area. The islands have often been on the “edge of society,” used to isolate people, institutions, and activities. After the talk, a business meeting will follow. The Council will introduce candidates interested in membership, hold elections for officers, and nominate Council representatives to the Partnership. Superintendent Giles Parker will also give updates about park operations and planning efforts.

DATES: March 9, 2016, from 6:00 p.m. to 8:00 p.m. (Eastern).

ADDRESSES: Museum of African American History, 14 Beacon Street, Suite 401, Boston, MA 02108.

FOR FURTHER INFORMATION CONTACT: Giles Parker, Superintendent and Designated Federal Official (DFO), Boston Harbor Islands National Recreation Area, 15 State Street, Suite 1100, Boston, MA 02109, telephone (617) 223-8669, or email giles_parker@nps.gov.

SUPPLEMENTARY INFORMATION: This meeting is open to the public. Those wishing to submit written comments may contact the DFO for the Council, Giles Parker, by mail at National Park Service, Boston Harbor Islands, 15 State Street, Suite 1100, Boston, MA 02109. Before including your address, telephone number, email address, or other personal identifying information in your comment, you should be aware that your entire comment—including your personal identifying information—may be made publicly available at any time. While you may ask us in your comment to withhold your personal identifying information from public review, we cannot guarantee that we will be able to do so.

The Council was appointed by the Director of the National Park Service pursuant to 16 U.S.C. 460kkk(g). The purpose of the Council is to advise and make recommendations to the Boston Harbor Islands Partnership with respect to the implementation of a management plan and park operations. Efforts have been made locally to ensure that the interested public is aware of the meeting dates.

Dated: February 3, 2016.
Alma Ripps
Chief, Office of Policy.

[FR Doc. 2016-02481 Filed 2-8-16; 8:45 am]

BILLING CODE 4310-EE-P